DEPARTMENT OF TRANSPORTATION

Federal Aviation Administration

Agency Information Collection Activities Under OMB Review

AGENCY: Federal Aviation Administrtion (FAA), DOT.

ACTION: Note.

SUMMARY: In compliance with the Paperwork Reduction Act of 1995 (44 U.S.C. 3501 et seq.), this notice announces that the Information Collection Requests (ICR) abstracted below have been forwarded to the Office of Management and Budget (OMB) for extension of the currently approved collections. The ICR describes the nature of the information collections and the expected burdens. The Federal Register Notice with a 60-day comment period soliciting comments on the following collection of information was published on April 26, 2001, pages 2017-2138.

DATES: Comments must be submitted on or before November 29, 2001. A comment to OMB is most effective if OMB receives it within 30 days of publication.

ADDRESSES: Send comments to the Office of Information and Regulatory affairs, Office of Management and Budget, 725 17th Street, NW, Washington, DC 20503, Attention FAA Desk Officer.

FOR FURTHER INFORMATION CONTACT: Judy Street on (202) 267-9895.

SUPPLEMENTARY INFORMATION:

Federal Aviation Administration (FAA)

1. Title: Safety Improvement Report, Accident Prevention Counselor Activity Reports.

Type of Request: Extension of a currently approved collection.

OMB Control Number: 2120-0057.

Forms(s) FAA Forms 89740-5 and 8740-6.

Affected Public: 4,792 Individuals and Businesses.

Abstract: Airmen use Safety Improvement Reports to notify the FAA of Hazards to flight operations. Counselors use Accident Prevention Counselor Activity Reports to advise the FAA of accomplishments of the accident prevention program. The affected public includes pilots, airport operators, and charter and commuter aircraft operators engaging in air transportation.

Estimated Annual Burden Hours: 1,769 hours annually.

2. Title: Implementation of the Equal Access to Justice Act.

Type of Request: Extension of a currently approved collection.

OMB Control Number: 2120-0539.

Forms(s) NA.

Affected Public: Estimated 15 applicant petitioning for an award of attorney's fees and other expenses under the Equal Access to Justice Act (EAJA).

Abstract: The information will be used to determine whether the applicant is eligible to receive an award under the EAJA.

Estimated Annual Burden Hours: An estimated 600 hours annually.

3. Title: Office of Dispute Resolution Procedures for Protests and Contract Disputes, 14 CFR part 17.

Type of Request: Extension of a currently approved collection.

OMB Control Number: 2120-0632.

Forms(s) NA.

Affected Public: A combined estimated 40 respondents (businesses, individuals, not-for-profit institutions, and state and local governments).

Abstract: These are procedural requirements for the conduct of protests and contract disputes before the Office of Dispute Resolution for Acquisition. 14 CFR 17.15 and 17.25 provide the procedures for filing protests and contract claims with the ODRA. The regulations seek factual and legal information from protesters or claimants.

Estimated Annual Burden Hours: An estimated 820 hours annually.

Comments are invited on: Whether the proposed collection of information is necessary for the proper performance of the functions of the Department, including whether the information will have practical utility; the accuracy of the Department's estimates of the burden of the proposed information collection ways to enhance the quality, utility and clarity of the information be be collected; and ways to minimize the burden of the collection; ways to enhance the quality, utility and clarity of the information to be collected; and ways to minimize the burden of the collection of information on respondents, including the use of automated collection techniques or other forms of information technology.

Dated: Issued Washington, DC, on October 16, 2001.
Steve Hopkins,
Manager, Standards and Information Division, APF-100.

[FR Doc. 01-27164 Filed 10-26-01; 8:45 am]

BILLING CODE 4910-13-M